DELAWARE RIVER BASIN COMMISSION

Notice of Commission Meeting and Public Hearing

Notice is hereby given that the Delaware River Basin Commission will hold an informal conference on Thursday, June 15, 2000 and a public hearing on Friday, June 16, 2000. The hearing will be part of the Commission's regular business meeting. Both the conference session and business meeting are open to the public and will be held at the River Run Restaurant at the West Branch Angler, 150 Faulkner Road, Deposit, New York.

The conference among the Commissioners and staff will begin at 1:30 p.m. on Thursday and will include status reports on the following subjects: a proposed coordinated drought plan; a study of the flow needs of the Delaware River and major tributaries; development of a TMDL for PCBs in the Delaware Estuary; a proposed agreement with the U.S. Army Corps of Engineers for storage at F.E. Walter Reservoir; and a proposal for joint DRBC-Corps of Engineers projects. In addition, there will be a presentation on a proposed new watershed atlas web site and discussion of possible source water protection activities.

The business meeting at 10:30 a.m. on Friday will include a public hearing on the projects summarized below. In addition, the Commission will address the following: minutes of the May 2, 2000 business meeting; announcements; report on hydrologic conditions in the basin; reports of the Executive Director and General Counsel; a resolution providing for the election of Commission officers for the fiscal year 2000-2001; and public dialogue.

The subjects of the hearing will be as follows:

1. Manwalamink Water Company D-89-50 CP RENEWAL. A renewal of a ground water withdrawal project to continue to supply up to 15 million gallons (mg)/30 days of water to the applicant's public water distribution system from Wells Nos. 1, 2, 3, 5 and 6. The project is located in Smithfield Township, Monroe County, Pennsylvania.

2. Town of Felton D-99-26 CP. A ground water withdrawal project to supply up to 4.9 mg/30 days of water to the applicant's distribution system from new Well No. 4, and to increase the existing withdrawal limit from all wells to 5.7 mg/30 days. The project is located in the Town of Felton, Kent County, Delaware.

3. Whitehall Township Authority D-2000-9 CP. A ground water withdrawal project to supply up to 33.3 mg/30 days of water to the applicant's public water distribution system from the new Lehnert Road Well, and to increase the existing withdrawal limit from all the applicant's wells to 91.2 mg/30 days. The project is located in Whitehall Township, Lehigh County, Pennsylvania.

4. Uwchlan Township D-2000-16 CP. A project to expand the applicant's Eagleview sewage treatment plant (STP) from 0.15 million gallons per day (mgd) to 0.475 mgd. The STP will continue to serve portions of Uwchlan and Upper Uwchlan Townships with tertiary treatment prior to discharge to Shamona Creek, a tributary of East Branch Brandywine Creek. The STP is located less than one mile south of the intersection of U.S. Route 76 and PA Route 100 in Uwchlan Township, Chester County, Pennsylvania.

5. Westtown Township D-2000-21 CP. A project to expand the applicant's existing 0.29 mgd Chester Creek STP to 0.495 mgd. The STP is located just southwest of Westtown Road in Westtown Township, Chester County, Pennsylvania and will continue to provide secondary treatment to Westtown Township. Treated effluent will continue to discharge to East Branch Chester Creek.

6. Sunny Dell Foods, Inc. D-2000-23. A project to construct a new 0.05 mgd industrial wastewater treatment plant to provide tertiary level treatment for the applicant's mushroom cannery facility. The facility straddles the border between the Borough of Kennett Square and Kennett Township immediately south of Baltimore Pike in Kennett Township, Chester County, Pennsylvania. Treated effluent will be discharged to West Branch Red Clay Creek in Water Quality Zone C5. After screening and disinfection, 0.09 mgd of cooling water will be discharged to West Branch Red Clay Creek via a separate outfall.

Documents relating to these items may be examined at the Commission's offices. Preliminary dockets are available in single copies upon request. Please contact Thomas L. Brand at (609) 883-9500 ext. 221 concerning docket-related questions. Persons wishing to testify at this hearing are requested to register with the Commission Secretary at (609) 883-9500 ext. 203 prior to the hearing.

Individuals planning to attend the hearing who need an accommodation as provided for in the Americans With Disabilities Act should contact the Commission Secretary directly at (609) 883-9500 ext. 203 or through the New Jersey Relay Service at 1-800-852-7899 (TTY) to discuss how the Commission may accommodate your needs.

Dated: May 30, 2000.
Pamela M. Bush,
Commission Secretary.

[FR Doc. 00-14288 Filed 6-6-00; 8:45 am]

BILLING CODE 6360-01-P